SMALL BUSINESS ADMINISTRATION

[Disaster Declaration #11304 and #11305]

Texas Disaster #TX-00289

AGENCY: U.S. Small Business Administration.

ACTION: Notice.

SUMMARY: This is a notice of an Administrative declaration of a disaster for the State of Texas dated 06/25/2008.

Incident: Tornado, High Winds and Hail.

Incident Period: 06/15/2008.

Effective Date: 06/25/2008.

Physical Loan Application Deadline Date: 08/25/2008.

Economic Injury (EIDL) Loan Application Deadline Date: 03/23/2009.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Childress.

Contiguous Counties:

Texas: Collingsworth, Cottle, Hall, Hardeman.

Oklahoma: Harmon.

The Interest Rates are:

| Percent
Homeowners With Credit Available Elsewhere | 5.375.
Homeowners Without Credit Available Elsewhere | 2.687.
Businesses With Credit Available Elsewhere | 8.000.
Businesses & Small Agricultural Cooperatives Without Credit Available Elsewhere | 4.000.
Other (Including Non-Profit Organizations) With Credit Available Elsewhere | 5.250.
Businesses and Non-Profit Organizations Without Credit Available Elsewhere | 4.000.

The number assigned to this disaster for physical damage is 11304 C and for economic injury is 11305 0.

The States which received an EIDL Declaration # are Texas, Oklahoma.

(Catalog of Federal Domestic Assistance Numbers 59002 and 59008)

Jovita Carranza,
Acting Administrator.

[FR Doc. E8-15376 Filed 7-3-08; 8:45 am]

BILLING CODE 8025-01-P